ENVIRONMENTAL PROTECTION AGENCY

[FRL-7128-2]

National Advisory Council for Environmental Policy and Technology; Public Meeting

AGENCY: Environmental Protection Agency (EPA).

ACTION: Notice of public meeting.

SUMMARY: Under the Federal Advisory Committee Act, P.L. 92463, EPA gives notice of a meeting of the National Advisory Council for Environmental Policy and Technology (NACEPT). NACEPT provides advice and recommendations to the Administrator of EPA on a broad range of environmental policy and management issues.

NACEPT consists of a representative cross-section of EPA's partners and principle constituents who provide advice and recommendations on policy issues and serve as a sounding board for new strategies that the Agency is developing.

NACEPT has identified emerging environmental issues and trends facing the Agency and will present a draft report and recommendations to the EPA. In addition, NACEPT will report on the work and status of subcommittees and workgroups. NACEPT will also determine next steps in continuing its role as a strategic and visionary advisory group. The meeting will be preceded by a new member administrative orientation session on January 28, 2002.

DATES: NACEPT will hold a two-day public meeting on Tuesday, January 29, 2002, from 8:30 a.m. to 5:00 p.m., and Wednesday, January 30, 2002, from 8:30 a.m. to 1:00 p.m. A pre-meeting orientation for newly appointed NACEPT members will take place from 2:00-5:00 p.m. on Monday, January 28, 2002.

ADDRESSES: The meeting will be held at the Hilton Alexandria Old Town located at 1767 King Street, Alexandria, VA. The hotel is conveniently located across from the King Street Metro.

SUPPLEMENTARY INFORMATION: Materials or written comments to the Council can be sent to Peter Redmond, Designated Federal Officer/NACEPT, using the contact information below (e-mail is preferred). Also, contact Mr. Redmond for copies of the draft report on emerging trends and issues. The public is welcome to attend all portions of the meeting; members of the public expecting to submit written comments and/or make brief oral statements (suggested 5-minute limit) during the public comment session are encouraged to contact Mr. Redmond by January 22, 2002.

Meeting Access: Individuals requiring special accommodation at this meeting, including wheelchair access, should contact Mr. Redmond at least five business days prior to the meeting so that appropriate arrangements can be made.

FOR FURTHER INFORMATION CONTACT: Peter G. Redmond, Designated Federal Officer/NACEPT, redmond.peter@epa.gov, (ph) 202-564-1292, (fax) 202-501-0661, U.S. EPA, Office of Cooperative Environmental Management (1601A), 1200 Pennsylvania Avenue NW, Washington, D.C. 20460.

Dated: January 7, 2002.
Peter G. Redmond,
Designated Federal Officer/NACEPT,Office of Cooperative Environmental Management.

[FR Doc. 02-705 Filed 1-10-02; 8:45 am]

BILLING CODE 6560-50-P